DEPARTMENT OF ENERGY

Federal Energy Regulatory Commission

[Docket No. ER09-1048-000; Docket No.; ER09-1049-000; Docket Nos. ER09-1050-000; ER09-1192-000; Docket No. ER09-1051-000; Docket No. ER09-1063-000; Docket No. ER09-1142-000]

California Independent System Operator Corporation; Midwest Independent Transmission System Operator, Inc.; Southwest Power Pool, Inc.; ISO New England, Inc. and New England Power Pool; PJM Interconnection, LLC; New York Independent System Operator, Inc. Notice of Date of Technical Conference on RTO/ISO Responsiveness

December 18, 2009.

On November 13, 2009, the Commission issued a notice announcing that the Commission staff would hold a technical conference in the near future to address issues raised in the above-referenced Order No. 719 compliance proceedings.¹ The purpose of this notice is to announce that the technical conference will be held on Thursday, February 4, 2010, from 12:30 p.m. to 4:30 p.m. (EST) in the Commission Meeting Room at the Commission's Washington, DC headquarters, 888 First Street, NE.

¹ Wholesale Competition in Regions with Organized Electric Market, Order No. 719, 73 FR 64,100 (Oct. 28, 2008), FERC Stats & Regs. ¶ 31,281 (2008); order onreh'g, 74 FR 37,772 (July 29, 2009), 128 FERC ¶ 61,059 (2009) (Order No. 719-A).

The agenda will be provided in a subsequent notice. This conference will be webcast. All interested parties are invited, and there is no registration fee to attend.

FERC conferences are accessible under section 508 of the Rehabilitation Act of 1973. For accessibility accommodations please send an email to accessibility@ferc.gov or call toll free (866) 208-3372 (voice) or (202) 502-8659 (TTY), or send a fax to (202) 208-2106 with the required accommodations.

Questions about the technical conference may be directed to Kurt Longo at kurt.longo@ferc.gov, (202) 502-8048.

Nathaniel J. Davis, Sr.,
Deputy Secretary.

[FR Doc. E9-30806 Filed 12-28-09; 8:45 am]

BILLING CODE 6717-01-P